DEPARTMENT OF JUSTICE

Notice of Lodging of Proposed Consent Decree Under the Clean Air Act

Notice is hereby given that, on July 24, 2000, a Consent Decree in United States v. Lloyd Manufacturing Corporation, Civil Action No. CA-00-363-ML, was lodged in the United States District Court for the District of Rhode Island.

In this action the United States sought injunctive relief and civil penalties under section 113(b) of the Clean Air Act (“CAA”), 42 U.S.C. 74139(b) against Lloyd Manufacturing Corporation (“Lloyd”). The alleged violations include failure to obtain a permit required by the CAA, failure to install pollution control devices required by the CAA, and the failure to use low emissions coatings as required by the CAA at the fabric coating facility owned and operated by Lloyd in Warren, Rhode Island. The Consent Decree resolves all of these claims. The Consent Decree requires Lloyd to comply with the Clean Air Act, to pay a civil penalty to the United States of $240,000, and to purchase approximately 247 tons of air emission reduction credits costing a total of between $148,200 and $172,900 as restitution for its past excess emissions.

The Department of Justice will accept written comments relating to the proposed Consent Decree for thirty (30) days from the date of publication of this notice. Please address comments to the Assistant Attorney General, Environment and Natural Resources Division, Department of Justice, P.O. Box 7611, Ben Franklin Station, Washington, D.C. 20044 and refer to—United States v. Lloyd Manufacturing Corporation, Civil Action No. CA-00-363-ML (D. R.I.), DJ # 90-5-2-1-06624.

Copies of the proposed Consent Decree may be examined at the Office of the United States Attorney for the District of Rhode Island, Assistant United States Attorney, Fleet Center, 8th Floor, 50 Kennedy Plaza, Providence, Rhode Island 02903; at the U.S. Environmental Protection Agency, Region I, 1 Congress Street, Suite 1100, Boston, Massachusetts 02114. A copy of the proposed Consent Decree may also be obtained by mail at the Department of Justice Consent Decree Library, P.O. Box 7611, Washington, DC 20044. When requesting a copy of the proposed Consent Decree by mail, please enclose a check in the amount of $5.00 (twenty-five cents per page reproduction costs) payable to the “Consent Decree Library.”

Bruce S. Gelber,
Deputy Chief, Environmental Enforcement Section, Environment and Natural Resources Division, Department of Justice.

[FR Doc. 00-20293 Filed 8-9-00; 8:45 am]

BILLING CODE 4410-15-M